DEPARTMENT OF TRANSPORTATION

National Highway Traffic Safety Administration

[Docket No. NHTSA-2017-2014]

Reports, Forms, and Record Keeping Requirements Agency Information Collection Activity Under OMB Review

AGENCY: National Highway Traffic Safety Administration (NHTSA), Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on October 20, 2017 (82 FR 48891). Two comments were received. The content of neither comment related to the proposed data collection.

DATES: Comments must be submitted on or before March 16, 2018.

ADDRESSES: Send comments, within 30 days, regarding the burden estimate, including suggestions for reducing the burden, to the Office of Management and Budget, Attention: Desk Officer for the Office of the Secretary of Transportation, 725 17th Street NW, Washington, DC 20503.

FOR FURTHER INFORMATION CONTACT: Ms. Laurie Flaherty, Coordinator, National 911 Program, Office of Emergency Medical Services (NPD-400), National Highway Traffic Safety Administration, U.S. Department of Transportation, 1200 New Jersey Avenue SE, Room W44-322, Washington, DC 20590. Ms. Flaherty's phone number is 202-366-2705 and her email address is Laurie.Flaherty@dot.gov. Please identify the relevant collection of information by referring to its OMB Control Number.

SUPPLEMENTARY INFORMATION:

Title: National 911 Profile Database.

OMB Control Number: 2127-0679.

Type of Request: Renewal/New of an information collection.

Abstract: The National 911 Profile Database is funded by the National 911 Program, which is housed within the Office of Emergency Medical Services at the National Highway Traffic Safety Administration, part of the U.S. Department of Transportation. The National 911 Program is proposing to continue to collect and aggregate information from State level reporting entities that can be used to measure the progress of 911 authorities across the country in upgrading their existing operations—and migrating to—digital, internet-Protocol-based emergency communication networks. The data will be maintained in a “National 911 Profile Database.”

One of the objectives of the National 911 Program is to develop, collect, and disseminate information concerning practices, procedures, and technology used in the implementation of 911 services and to support 911 Public Safety Answering Points (PSAPs) and related State and local agencies for 911 deployment and operations. The National 911 Profile Database can be used to follow the progress of 911 authorities in enhancing their existing systems and implementing next-generation networks for more advanced systems. The information can also be used to identify ways in which the National 911 Program can support State and local 911 authorities in the transition process.

Affected Public: Under this proposed effort, the National 911 Program would specifically request reporting entities to voluntarily collect and annually report the data described above utilizing a Web-based data collection tool. Reporting entities are State-level 911 program officials, and the data reported will reflect State-level aggregated data.

Estimated Number of Respondents: The total maximum number of respondents is identified as 56, including the 50 States and the six U.S. Territories of Guam, U.S. Minor Outlying Islands, American Samoa, Mariana Islands, U.S. Virgin Islands, and Puerto Rico.

Frequency: The reporting entities will be requested to submit data annually relating to their State or territory, using the Web-based tool described above.

Estimated Total Annual Burden Hours: NHTSA estimates that submitting responses to the questions included in the proposed survey instrument utilizing the Web-based tool would require an average of 98 hours per state to collect, aggregate and submit. Estimating the maximum number of respondents to be 56, this would result in a total burden of 5,488 hours. The respondents would not incur any reporting costs from the information collection beyond the time it takes to gather the information, prepare it for reporting, and then populate the Web-based data collection tool. The respondents also would not incur any recordkeeping burden or recordkeeping costs from the information collection. The total estimated costs to respondents or record-keepers are based on the following: The total hour burden of the collection of information equaling 5,488 hours. Respondents will be State, territory, and tribal government management personnel. To estimate reasonable staff expenses to respond to this information collection, the Agencies reviewed the Bureau of Labor Statistics (BLS) Occupational Outlook Handbook and determined that the Administrative Services Manager description closely aligns with the positions of recipient staff responsible for completing this request. BLS lists a median salary of $86,100 annually, amounting to $41.40 per hour. There are no capital, start-up, or annual operation and maintenance costs involved in the collection of information. Total cost based on hour's burden equals $227,203.20.

Public Comments Invited: You are asked to comment on any aspects of this information collection, including (a) whether the proposed collection of information is necessary for the proper performance of the functions of the Department and whether the information will have practical utility; (b) the accuracy of the Department's estimate of the burden of the proposed information collection; (c) ways to enhance the quality, utility, and clarity of the information to be collected; and (d) ways to minimize the burden of the collection of information on respondents, including the use of automated collection techniques or other forms of information technology.

Authority: 44 U.S.C. Section 3506(c)(2)(A).

Issued in Washington, DC, on February 9, 2018.
Jeff Michael,
Associate Administrator, Research and Program Development.

[FR Doc. 2018-03028 Filed 2-13-18; 8:45 am]

BILLING CODE 4910-59-P